CORPORATION FOR NATIONAL AND COMMUNITY SERVICE

National Civilian Community Corps (NCCC) Advisory Board Meeting

AGENCY: Corporation for National and Community Service.

ACTION: Cancellation and announcement of a NCCC Advisory Board meeting.

SUMMARY: The Corporation for National and Community Service is issuing this notice under Public Law 92-463 (Federal Advisory Committee Act) to advise the public that the January 19, 2006 meeting of the AmeriCorps NCCC Advisory Board has been cancelled and replaced with a February 8, 2006 meeting. The Board advises the Director of the NCCC concerning the administration of the program and assists in the development and administration of the Corps:

Date and Time: Wednesday, February 8, 2006, 10 a.m.-4 p.m.

Place: Corporation for National and Community Service, 1201 New York Avenue, NW., 8th Floor, Room 8312, Washington, DC 20525.

Status: Open.

Matters To Be Considered: The Board will discuss a proposal that establishes two new committees of the Advisory Board, which should result in the Board being in a position to better support and advance the overall goals and objectives of the NCCC. These two committees will be concerned primarily with Board development and strategic initiatives, respectively.

Accommodations: Upon request, meeting notices will be made available in alternative formats to accommodate visual and hearing impairments. Anyone who needs an interpreter or other accommodation should notify the Corporation's contact person by 5 p.m. Thursday, February 2, 2006.

FOR FURTHER INFORMATION CONTACT: Ms. Erma Hodge, Executive Assistant, NCCC, Corporation for National and Community Service, 10th Floor, 202-606-6696. E-mail: ehodge@cns.gov.

Dated: January 12, 2006.
Merlene Mazyck,
Director, National Civilian Community Corps.

[FR Doc. E6-507 Filed 1-18-06; 8:45 am]

BILLING CODE 6050-$$-P